DEPARTMENT OF HOMELAND SECURITY

Federal Emergency Management Agency

[Docket ID FEMA-2010-0048]

Recovery Policy RP9525.16, Research-Related Equipment and Furnishings

AGENCY: Federal Emergency Management Agency, DHS.

ACTION: Notice of availability.

SUMMARY: This document provides notice of the availability of the final policy RP9525.16, Research-related Equipment and Furnishings. The Federal Emergency Management Agency (FEMA) published a notice of availability and request for comments on August 13, 2010.

DATES: This policy is effective May 3, 2011.

ADDRESSES: This final policy is available online at http://www.regulations.gov and on FEMA's Web site at http://www.fema.gov. The proposed and final policy, all related Federal Register notices, and all public comments received during the comment period are available at http://www.regulations.gov under docket ID FEMA-2010-0048. You may also view a hard copy of the final policy at the Office of Chief Counsel, Federal Emergency Management Agency, Room 835, 500 C Street, SW., Washington, DC 20472-3100.

FOR FURTHER INFORMATION CONTACT: Deborah Atkinson, Federal Emergency Management Agency, 500 C Street, SW., Washington, DC 20472, or via e-mail at Deborah.Atkinson@dhs.gov.

SUPPLEMENTARY INFORMATION:

The intent of this policy is to identify the expenses associated with disaster-damaged research-related equipment and furnishings of eligible private nonprofit or public facilities that are eligible for reimbursement under the Public Assistance (PA) Program. FEMA requested review and comment on the draft policy from August 13, 2010, through September 13, 2010 (75 FR 49506). FEMA received and adjudicated the comments. While the final policy does not make significant substantive changes to the previously effective policy (dated April 30, 2007), the updated policy does include clarifying language in several sections. These clarifications include: additional language on FEMA authorities in section V; the addition of section VI.D on the application of existing PA insurance requirements; a minor clarification in VIII.A indicating that an active research program must support an eligible function; an update to VIII.B.1 that allows an applicant input on decisions regarding the genetic likeness of lab animals; the deletion document retention language in VIII.B.3, given that existing PA documentation requirements apply to all PA projects, including involving research-related equipment and furnishings; and a minor clarification in section VIII.F by citing the specific relevant provision in the regulations.

Authority: 42 U.S.C. 5121-5207; 44 CFR part 206.

David J. Kaufman,
Director, Office of Policy and Program Analysis, Federal Emergency Management Agency.

[FR Doc. 2011-14867 Filed 6-14-11; 8:45 am]

BILLING CODE 9111-23-P